DEPARTMENT OF THE TREASURY

Office of Foreign Assets Control

Sanctions Actions Pursuant to Executive Order 13582

AGENCY: Office of Foreign Assets Control, Treasury.

ACTION: Notice.

SUMMARY: The Treasury Department's Office of Foreign Assets Control (OFAC) is publishing the names of 10 persons whose property and interests in property are blocked pursuant to Executive Order (E.O.) 13582.

DATES: OFAC's actions described in this notice were effective on November 25, 2015, as further specified below.

FOR FURTHER INFORMATION CONTACT: Associate Director for Global Targeting, tel.: 202/622-2420, Associate Director for Sanctions Policy & Implementation, tel.: 202/622-2480, Office of Foreign Assets Control, or Chief Counsel (Foreign Assets Control), tel.: 202/622-2410, Office of the General Counsel, Department of the Treasury (not toll free numbers).

SUPPLEMENTARY INFORMATION:

Electronic and Facsimile Availability

The Specially Designated Nationals and Blocked Persons List and additional information concerning OFAC sanctions programs are available on OFAC's Web site (www.treas.gov/ofac). Certain general information pertaining to OFAC's sanctions programs is also available via facsimile through a 24-hour fax-on-demand service, tel.: 202/622-0077.

Notice of OFAC Actions

On November 25, 2015, OFAC blocked the property and interests in property of the following 10 persons pursuant to E.O. 13582, “Blocking Property of the Government of Syria and Prohibiting Certain Transactions with Respect to Syria”:

Individuals

1. ILYUMZHINOV, Kirsan Nikolayevich (a.k.a. ILYUMZHINOV, Kirsan); DOB 05 Apr 1962; POB Elista, Republic of Kalmykia, Russia (individual) [SYRIA] (Linked To: MAYALEH, Adib; Linked To: RIDA, Batoul).

2. KHURI, Mudalal (a.k.a. KHOURY, Mudallal; a.k.a. KHURI, Mudalal Mtanyus); DOB 18 Jun 1957; POB Khoms, Syria; nationality Russia (individual) [SYRIA] (Linked To: MAYALEH, Adib; Linked To: RIDA, Batoul).

3. NICOLAOU, Nicos; DOB 06 Apr 1965; POB Cyprus; nationality Cyprus (individual) [SYRIA] (Linked To: IOANNOU, Ioannis; Linked To: PIRUSETI ENTERPRISES LTD; Linked To: KHURI, Mudalal).

4. HASWANI, George (a.k.a. AL HASAWANI, George; a.k.a. HASAWANI, George; a.k.a. HASWANI, Jurj; a.k.a. HESSWANI, Georges; a.k.a. HESWANI, George; a.k.a. HEWANI, George; a.k.a. KHESOUANI, George; a.k.a. KHESOUANI, Georges); DOB 26 Sep 1946; POB Yabrud, Syria; nationality Syria; alt. nationality Russia (individual) [SYRIA].

Entities

1. EZEGOO INVESTMENTS LTD, 1 Logothetou, Lemesos 4043, Cyprus; National ID No. C310521 (Cyprus) [SYRIA] (Linked To: IOANNOU, Ioannis; Linked To: KHURI, Mudalal; Linked To: NICOLAOU, Nicos; Linked To: PRIMAX BUSINESS CONSULTANTS LIMITED).

2. HUDSOTRADE LIMITED, 118 Anexartisias Street, Suite 202, Limassol 3040, Cyprus; 14 Gubkina Street, Moscow, Moscow Region 117312, Russia; Web site http://www.primax.com.cy; Registration ID C81329 (Cyprus) [SYRIA] (Linked To: KHURI, Mudalal; Linked To: NICOLAOU, Nicos; Linked To: PRIMAX BUSINESS CONSULTANTS LIMITED).

3. KREMSONT COMMERCIAL INC. (a.k.a. KREMSONT ALLIANCE CORP.), Corner of Eyre Street and Hutson Street, Blake Building, No. 302, Belize City, Belize [SYRIA] (Linked To: KHURI, Mudalal).

4. PRIMAX BUSINESS CONSULTANTS LIMITED, 118 Anexartisias Street, 2nd Floor, Apt/Office 202, Limassol, Cyprus; Registration ID HE 143062 (Cyprus) [SYRIA] (Linked To: KHURI, Mudalal; Linked To: NICOLAOU, Nicos).

5. RUSSIAN FINANCIAL ALLIANCE BANK (a.k.a. OPEN JOINT STOCK COMPANY JOINT STOCK COMMERCIAL BANK 'RUSSIAN FINANCIAL ALLIANCE'; a.k.a. RFA BANK; a.k.a. “AKB RFA, OAO”; a.k.a. “OJSC JSCB RFA”), per. Maly Karetny, d. 11-13, str. 1, Moscow 127051, Russia; SWIFT/BIC MNGRRUMM; Web site www.rfabank.ru; all offices worldwide [SYRIA] (Linked To: KHURI, Mudalal; Linked To: ILYUMZHINOV, Kirsan Nikolayevich).

6. HESCO ENGINEERING & CONSTRUCTION CO (a.k.a. HESCO ENG & CON. CO; a.k.a. HESCO ENGINEERING AND CONSTRUCTION COMPANY LIMITED), Al Horani Building, Abdullah Ben Omer Street, Damascus, Syria; Suite 351, 10 Great Russell Street, London WC1B 3BQ, United Kingdom; Company Number 05527424 (United Kingdom) [SYRIA] (Linked To: HASWANI, George).

Dated: November 25, 2015.
John E. Smith,
Acting Director, Office of Foreign Assets Control.

[FR Doc. 2015-30475 Filed 11-30-15; 8:45 am]

BILLING CODE 4810-AL-P